DEPARTMENT OF ENERGY

Federal Energy Regulatory Commission

Notice of Effectiveness of Exempt Wholesale Generator Status

Glen Ullin Energy Center, LLC | EG19-95-000
Wildhorse Wind Energy, LLC | EG19-96-000
Blossburg Power, LLC | EG19-97-000
GenOn Holdco 1, LLC | EG19-98-000
GenOn Holdco 2, LLC | EG19-99-000
GenOn Holdco 3, LLC | EG19-100-000
GenOn Holdco 4, LLC | EG19-101-000
GenOn Holdco 5, LLC | EG19-102-000
GenOn Holdco 6, LLC | EG19-103-000
GenOn Holdco 7, LLC | EG19-104-000
GenOn Holdco 8, LLC | EG19-105-000
Hamilton Power, LLC | EG19-106-000
Hunterstown Power, LLC | EG19-107-000
Niles Power, LLC | EG19-108-000
Orrtanna Power, LLC | EG19-109-000
Shawnee Power, LLC | EG19-110-000
Titus Power, LLC | EG19-111-000
Tolna Power, LLC | EG19-112-000
Sage Draw Wind, LLC | EG19-113-000
231RC 8me LLC | EG19-114-000
Canadian Breaks LLC | EG19-115-000
RE Gaskell West 2 LLC | EG19-116-000
Turquoise Nevada LLC | EG19-117-000

Take notice that during the month of July 2, 2019, the status of the above-captioned entities as Exempt Wholesale Generators Companies became effective by operation of the Commission's regulations. 18 CFR 366.7(a) (2018).

Dated: August 12, 2019.
Kimberly D. Bose,
Secretary.

[FR Doc. 2019-17728 Filed 8-16-19; 8:45 am]

BILLING CODE 6717-01-P